ENVIRONMENTAL PROTECTION AGENCY

[EPA-HQ-OA-2006-0278; FRL-9923-50-OA]

Proposed Information Collection Request; Comment Request; Participation by Disadvantaged Business Enterprises in Procurements Under EPA Financial Assistance Agreements (Renewal)

AGENCY: Environmental Protection Agency (EPA).

ACTION: Notice.

SUMMARY: The Environmental Protection Agency (EPA) is planning to submit an information collection request (ICR), “Participation by Disadvantaged Business Enterprises in Procurement under EPA Financial Assistance Agreements (Renewal)” (EPA ICR No. 2047.05, OMB Control No. 2090-0030) to the Office of Management and Budget (OMB) for review and approval in accordance with the Paperwork Reduction Act (44 U.S.C. 3501 et seq.). Before doing so, EPA is soliciting public comments on specific aspects of the proposed information collection as described below. This is a proposed extension of the ICR, which is currently approved through August 31, 2015. An Agency may not conduct or sponsor and a person is not required to respond to a collection of information unless it displays a currently valid OMB control number.

DATES: Comments may be submitted on or before April 27, 2015.

ADDRESSES: Submit your comments, referencing Docket ID No. EPA-HQ-OA-2006-0278 online using www.regulations.gov (our preferred method), by email to oei.docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Teree Henderson, Office of Small Business Programs, (mail code: 1230T), Environmental Protection Agency, 1200 Pennsylvania Ave. NW., Washington, DC 20460; telephone number: 202-566-2222; fax number: 202-566-0548; email address: Henderson.Teree@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA currently requires an entity to be certified in order to be considered a Minority Business Enterprise (MBE) or Women's Business Enterprise (WBE) under EPA's Disadvantaged Business Enterprise (DBE) Program. To qualify as an MBE or WBE under EPA's programs an entity must establish that it is owned and/or controlled by socially and economically disadvantaged individuals who are of good character and are citizens of the United States. The EPA DBE Program also includes contract administration requirements designed to prevent unfair practices that adversely affect DBEs.

Form Numbers: 6100-1a, 6100-1b, 6100-1c, 6100-1d, 6100-1e, 6100-1f, 6100-1g, 6100-1h, 6100-1i, 6100-2, 6100-3, and 6100-4.

Respondents/Affected Entities: Private Sector.

Respondent's Obligation to Respond: Required to obtain or retain a benefit per 40 CFR 33, Subpart B and 40 CFR 33, Subpart E.

Estimated Number of Respondents: 1,865 (total).

Frequency of Response: Certification: On occasion.

Total Estimated Burden: 11,614 hours (per year). Burden is defined at 5 CFR 1320.03(b)

Total Estimated Cost: $372,817.43 (per year), includes $0 annualized capital or operation & maintenance costs.

Changes in the Estimates: There is an increase of $10,104 in the total estimated cost which reflects updated wage rates as determined by the Department of Labor. There are no changes to the total estimated respondent burden. EPA is currently performing a comprehensive review of the DBE Rule which is scheduled to be completed by September 30, 2015. The ICR will be revised in accordance with lessons learned from this review with a focus on maximizing practical utility and minimizing public burden associated with collection.

Dated: February 5, 2015.
Kimberly Patrick,
Director, Office of Small Business Programs.

[FR Doc. 2015-03918 Filed 2-24-15; 8:45 am]

BILLING CODE 6560-50-P